GENERAL SERVICES ADMINISTRATION

Governmentwide Per Diem Advisory Board

AGENCY: General Services Administration.

ACTION: Establishment of Advisory Board.

Establishment of Advisory Board

This notice is published in accordance with the provisions of the Federal Advisory Committee Act (Public Law 92-463), and advises of the establishment of the GSA Governmentwide Per Diem Advisory Board. The Administrator of General Services has determined that the establishment of the Board is necessary and in the public interest.

Purpose of the Advisory Board

The Board will be used to obtain advice and recommendations on a wide range of travel management and best practices issues. The Board's first priority will be to examine the current rate-setting process and methodology used to establish per diem rates for destinations within the continental United States. In addition, the Board will identify best practices for a Governmentwide lodging program.

FOR FURTHER INFORMATION CONTACT: The Office of Transportation and Personal Property, Office of Governmentwide Policy, is the organization within GSA that is sponsoring this board. For additional information, contact Joddy P. Garner (MTT), 1800 F Street, NW, Washington, DC 20405, telephone (202) 501-4857, or by e-mail at joddy.garner@gsa.gov

Stephen A. Perry,
Administrator.

[FR Doc. 02-11836 Filed 5-10-02; 8:45 am]

BILLING CODE 6820-34-M